DEPARTMENT OF HEALTH AND HUMAN SERVICES

Substance Abuse and Mental Health Services Administration

Center for Substance Abuse Prevention; Notice of Meeting

Pursuant to Public Law 92-463, notice is hereby given of a closed teleconference meeting of the Center for Substance Abuse Prevention (CSAP) National Advisory Council in September 2004.

The meeting will include the review, discussion and evaluation of individual grant applications. Therefore, the meeting will be closed to the public as determined by the SAMHSA Administrator, in accordance with title 5 U.S.C. 552b(c)(6) and 5 U.S.C. App. 2, Section 10(d).

Substantive program information, including a summary of the meeting and roster of Council members, may be obtained by accessing the SAMHSA/CSAP Web site, http://www.samhsa.gov/council/CSAP/csapnac.aspx, or from the contact listed below.

Committee Name: Center for Substance Abuse Prevention National Advisory Council.

Meeting Date: September 1, 2004.

Place: Substance Abuse and Mental Health Services Administration, CSAP Director's Conference Room, 1 Choke Cherry Road, Rockville, Maryland 20857.

Type: Closed: September 1, 2004—2 p.m. to 4 p.m.

Contact: Marlene Passero, Committee Management Specialist, 5600 Fishers Lane, Rockwall II Building, Suite 900, Rockville, Maryland 20857, telephone: (301) 443-8323; fax: (301) 443-3979, e-mail: mpassero@samhsa.gov.

Dated: August 19, 2004.
Toian Vaughn,
Committee Management Officer, Substance Abuse and Mental Health Services Administration.

[FR Doc. 04-19397 Filed 8-20-04; 3:25 pm]

BILLING CODE 4162-20-P